DEPARTMENT OF TRANSPORTATION

Federal Aviation Administration

Forty-Fourth Meeting: RTCA Special Committee 206 (SC-206) Aeronautical Information and Meteorological Data Link Services

AGENCY: Federal Aviation Administration (FAA), U.S. Department of Transportation (DOT).

ACTION: Notice of Forty-Fourth RTCA Special Committee 206 meeting.

SUMMARY: The FAA is issuing this notice to advise the public of the Forty-Fourth RTCA Special Committee 206 meeting.

DATES: The meeting will be held June 13-17, 2016 from 8:30 a.m.-5:00 p.m.

ADDRESSES: The meeting will be held at NAV CANADA, 1601 Tom Roberts Avenue, Gloucester, ON, Canada K1V1E6.

FOR FURTHER INFORMATION CONTACT: The RTCA Secretariat, 1150 18th Street NW., Suite 910, Washington, DC 20036, or by telephone at (202) 833-9339, fax at (202) 833-9434, or Web site at http://www.rtca.org or Karan Hofmann, Program Director, RTCA, Inc., khofmann@rtca.org, (202) 330-0680.

SUPPLEMENTARY INFORMATION: Pursuant to section 10(a)(2) of the Federal Advisory Committee Act (Pub. L. 92-463, 5 U.S.C., App.), notice is hereby given for a meeting of RTCA Special Committee 206. The agenda will include the following:

Monday, June 13, 2016

1. Opening Plenary

2. Opening remarks: DFO, RTCA, Chairman, and Host

3. Attendees' introductions

4. Review and approval of meeting agenda

5. Approval of previous meeting minutes (Atlanta, GA)

6. Action item review

a. Sub-Groups' reports

b. SG1/6: MASPS

c. SG4: EDR MOPS

d. SG5: FIS-B MOPS

e. SG7: Winds Guidance

7. Industry presentations

a. 1090 Spectrum Congestion Analysis—FAA

b. FIS-B Data Source Transition—Harris

8. Sub-Groups meetings (1:00 p.m.)

Tuesday, June 14, 2016

1. Sub-Groups meetings (8:30 a.m.)

Wednesday, June 15, 2016

1. Plenary SG6 MASPS Review for FRAC release (Sub-Group meetings will resume if review ends early) (8:30 a.m.)

2. Sub-Groups meetings (1:00 p.m.)

Thursday, June 16, 2016

1. Sub-Groups meetings (8:30 a.m.)

Friday, June 17, 2016

1. Closing Plenary (8:30 a.m.)

a. Sub-Groups' reports

b. Decision to approve SG6 MASPS for FRAC release

c. Future meetings plans and dates

d. Industry coordination

i. WG-76 Briefing

e. SC-206 action item review

f. Other business

2. Adjourn (11:00 a.m.)

Attendance is open to the interested public but limited to space availability. If planning to attend in person, please provide the following information as soon as possible: Name, organization, position title, phone number, supervisor name, supervisor contact information, and dates of attendance. With the approval of the chairman, members of the public may present oral statements at the meeting. Plenary information will be provided upon request. Persons who wish to present statements or obtain information should contact the person listed in the FOR FURTHER INFORMATION CONTACT section. Members of the public may present a written statement to the committee at any time.

Issued in Washington, DC, on May 12, 2016.
Latasha Robinson,
Management & Program Analyst, NextGen, Enterprise Support Services Division, Federal Aviation Administration.

[FR Doc. 2016-12126 Filed 5-20-16; 8:45 am]

BILLING CODE 4910-13-P